DEPARTMENT OF COMMERCE

Submission for OMB Review; Comment Request

The Department of Commerce will submit to the Office of Management and Budget (OMB) for clearance the following proposal for collection of information under the provisions of the Paperwork Reduction Act.

Agency: U.S. Census Bureau.

Title: Current Population Survey (CPS), Basic Demographic Items.

OMB Control Number: 0607-0049.

Form Number(s): There are no forms for data collection. We conduct all interviews on computers.

Type of Request: Regular Submission.

Number of Respondents: 59,000 per month, all of which also receive the labor force items directly after the basic demographic items.

Average Hours per Response: 1.5 minutes.

Burden Hours: 0.025 hours.

Needs and Uses: The CPS has been the source of official government statistics on employment and unemployment for over 60 years. The Bureau of Labor Statistics (BLS) and the Census Bureau jointly sponsor the basic monthly survey. The Census Bureau prepares and conducts all the field work. At the OMB's request, the Census Bureau and the BLS divide the clearance request in order to reflect the joint sponsorship and funding of the CPS program. The BLS submits a separate clearance request for the portion of the CPS that collects labor force information for the civilian noninstitutionalized population. Some of the information within that portion includes employment status, number of hours worked, job search activities, earnings, duration of unemployment, and the industry and occupation classification of the job held the previous week. The justification that follows is in support of the demographic data collected through the basic monthly CPS.

The demographic information collected in the CPS provides a unique set of data on selected characteristics for the civilian noninstitutionalized population. Some of the demographic information collected are age, marital status, sex, Armed Forces status, educational attainment, race, and Hispanic ethnicity. BLS and the Census Bureau analyze and publish these demographic data in conjunction with the monthly labor force data collected in the monthly CPS as well as data collected through periodic supplemental surveys to the CPS. The Census Bureau also uses the demographic data for internal research projects, including the evaluation of other surveys. The Census Bureau uses population estimates from the CPS to serve as population controls for other Census programs, such as the American Time Use Survey. Controls are used in estimation procedures during data processing. The ratio of a control to a sample survey estimate is applied to that sample estimate, resulting in the sample survey estimate matching the control.

In addition to the basic demographic information, the monthly CPS includes a small set of questions that are only asked on an “as-needed” basis, to react to a severe weather-related event, such as a hurricane or flood. If such an event (weather disaster) occurs, and BLS and the Census Bureau determine a need to include these questions on the number of persons in the U.S. displaced as a result of the disaster, where they evacuated to, and when they returned home, the questions are added temporarily to the survey. The items typically are included for several months in the CPS, and once BLS and the Census Bureau determine that they are no longer needed, they are removed.

Affected Public: Households.

Frequency: Monthly.

Respondent's Obligation: Voluntary.

Legal Authority: Title 13, U.S.C., Section 182 and Title 29, U.S.C., Sections 1-9.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer.

[FR Doc. 2018-10189 Filed 5-11-18; 8:45 am]

BILLING CODE 3510-07-P